DEPARTMENT OF ENERGY

Federal Energy Regulatory Commission

[Docket No. CP05-356-000]

Tennessee Gas Pipeline Company; Notice of Abbreviated Application of Tennessee Gas Pipeline Company for Authorization to Remove a Receipt Point From a Certificated Transportation Service

June 3, 2005.

Take notice that on May 18, 2005, Tennessee Gas Pipeline Company (Tennessee) pursuant to section 7(c) of the Natural Gas Act, 15 U.S.C. 717f(c) and part 157 of the Commission's Regulations, tendered for filing an application for authorization to amend its certificate of public convenience and necessity granted in Docket No. CP81-474-000, issued by order dated November 4, 1981.¹

¹ Tennessee Gas Pipeline Company, 17 FERC ¶ 62,196 (1981).

Tennessee requests authority to remove a receipt point designated as meter No. 011699 from a firm natural gas transportation service provided for Dynegy Marketing and Trade under Tennessee Rate Schedule T-124, FERC Gas Tariff, Original Volume No. 2.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Intervention and Protest Date: 5 p.m. Eastern Time June 10, 2005.

Linda Mitry,
Deputy Secretary.

[FR Doc. E5-2960 Filed 6-8-05; 8:45 am]

BILLING CODE 6717-01-P